DEPARTMENT OF AGRICULTURE

Forest Service

Northern Rockies Lynx Amendment

AGENCY: Forest Service, USDA.

ACTION: Scoping notice to prepare an Environmental Assessment.

SUMMARY: The Forest Service and Bureau of Land Management (BLM) are cooperating in the preparation of an environmental assessment on a proposal to implement new management direction for the Canada lynx for national forests and BLM units within the Northern Rocky Mountain area. More specifically, the proposal would amend 18 land and resource management plans for national forests in Idaho, Montana, Utah and Wyoming, and 18 BLM land use plans in Idaho and Utah. (Hereafter Forest Service land and resource management plans and BLM land use plans are referred to as land management plans, or plans). The Forest Service is the lead agency.

Forest Service administrative units included in this amendment are the Idaho Panhandle, Clearwater, Nez Perce, Kootenai, Flathead, Lolo, Lewis and Clark, Helena, Bitterroot, Beaverhead Deerlodge, Gallatin and Custer National Forests located in the Northern Region or Region 1; the Bighorn, and Shoshone National Forests located in the, Rocky Mountain Region or Region 2, and the Salmon-Challis, Targhee, Ashley, and Brigder-Teton National Forests located in the Intermountain Region or Region 4. BLM administrative units affected by this effort include the Salt Lake Field Office in Utah, and the Upper Snake River District, Lower Snake River District, and Upper Columbia-Salmon Clearwater District in Idaho. A more detailed description of affected BLM plans will be provided in the near future in a separate notice as required by the Department of Interior.

The purpose of the proposal is to incorporate management direction for the Canada lynx based on new information regarding lynx developed since the issuance of the land management plans. If approved, the amendment would establish management direction that conserves and promotes recovery of the Canada lynx by promoting restoration of lynx habitat, and reducing or eliminating adverse effects from management activities on these lands, while preserving the overall multiple-use direction in existing plans. This direction will ensure compliance with the requirements of the National Forest Management Act, the Federal Land Policy and Management Act, and the Endangered Species Act.

DATES: Comments concerning the scope of analysis should be postmarked on or before October 26, 2001. Open houses will be held throughout the affected area. Meeting dates may be found in the SUPPLEMENTARY INFORMATION section.

ADDRESSES: Send written comments to Northern Rockies Lynx Amendment, Attn: Jon Haber, Project Manager, Northern Region Headquarters, PO BOX 7669, Missoula, MT 59807.

FOR FURTHER INFORMATION CONTACT: Marcia Hogan, Public Affairs Officer, (406) 329-3300. Information regarding lynx and the planning process can also be found on the Northern Region website at http://www.fs.fed.us/rl/lynx.html.

SUPPLEMENTARY INFORMATION:

Background

Canada lynx inhabit moist coniferous forests that experience cold, snowy winters and provide a prey base of snowshoe hare. In the United States, lynx occur mostly on Federal lands, especially in the west. The lynx occupies habitat on national forest lands in Regions 1, 2, 4, 6 and 9 and BLM lands in Colorado, Idaho, Montana, Oregon, Washington, Utah and Wyoming.

On July 8, 1998 the U.S. Fish and Wildlife Service (USFWS) proposed to list the Canada lynx as a threatened species. The Forest Service and BLM responded to the declining status of lynx in 1998 by establishing a science team of international experts in lynx ecology to collect and summarize scientific data. This effort resulted in the publication of “Ecology and Conservation of Lynx in the United States.” At the same time, another team of biologists developed the “Lynx Conservation Assessment and Strategy” (LCAS). Based on information compiled by the science team, the LCAS recommended conservation measures to be applied to all federal lands in the conterminous United States. The conservation measures of the LCAS focus on managing within the historic range of variability, maintaining dense understory conditions for prey, minimizing snow compaction, and identifying and maintaining connectivity within and between habitat areas.

In December 1999, the Forest Service and BLM prepared a Biological Assessment (BA) of 57 Forest Service and 56 BLM land management plans. The BA determined that the plans were likely to adversely affect lynx because they did not contain direction to conserve lynx. The agencies consulted on the plans by submitting the BA to the USFWS.

In February 2000, five Regional Foresters and four USFWS Regional Directors signed a “Lynx Conservation Agreement,” to promote the conservation of lynx and its habitat. In August 2000, the BLM Assistant Director for Renewable Resources and Planning and USFWS Regional Directors in Regions 1 and 6 signed a similar Conservation Agreement. Both agreements require the agencies to review and consider the recommendations in the LCAS prior to making any new decision to undertake actions in lynx habitat. In addition, the agreements say that changes in management direction will be made through amendment or revision. In March 2001, the Forest Service developed a schedule to amend or revise plans to address the lynx.

The USFWS listed the lynx as threatened, effective April 24, 2000. The USFWS concluded that the chief threat to the lynx in the contiguous United States was the lack of guidance to conserve the species in federal land management plans.

Formal consultation, as required by the Endangered Species Act, was completed on October 25, 2000 when the USFWS issued a Biological Opinion on the plans. The USFWS concluded in its opinion that the plans as implemented in conjunction with the Conservation Agreement, are not likely to jeopardize the continued existence of the lynx.

In accordance with the agreed upon schedule, this Northern Rockies Lynx Amendment will implement the planning aspect of the Conservation Agreements for 18 national forests in Regions 1, 2, and 4, and four BLM units in the states of Idaho and Utah. The national forests included in this amendment are: The Idaho Panhandle, Clearwater, Nez Perce, Lolo, Kootenai, Flathead, Lewis and Clark, Helena, Bitterroot, Beaverhead-Deerlodge, Gallatin and Custer National Forests in Region 1; the Shoshone and Bighorn National Forests in Region 2; and the Salmon-Challis, Targhee, Ashley and Bridger-Teton National Forests in Region 4. The BLM units include the Salt Lake Field Office in Utah, and the Upper Snake River District, Lower Snake River District, and Upper Columbia-Salmon Clearwater District in Idaho.

Eleven national forests in the Northern Rocky Mountain area are not included in this amendment. In Region 4 the Payette, Boise, Sawtooth, Caribou, Wasatch-Cache, and Unita National Forests are currently revising their plans. Information from this amendment process may be used in developing those plans. In Region 6, the Colville, Umatilla, Wallowa-Whitman, Malheur, and Ochoco National Forests will address lynx through a separate process at a late date. The Forest Service is currently addressing lynx in the Southern Rocky Mountain area through a separate amendment process (Federal Register, Vol. 65, No. 127, 40601-40606.)

BLM units covered in this amendment are limited to those in Idaho and Utah. BLM units in Montana and Wyoming will address lynx in separate processes and are not included in this proposal.

The Forest Service and BLM believe that whenever practical, management direction should be developed at the local level. However, with lynx, new scientific information affecting many plans needs to be addressed promptly and consistently. The Forest Service and BLM expect this amendment process to expeditiously update the affected plans with improved lynx management direction.

Once this amendment is in place, individual plans may be amended or revised, as needed, to respond to local conditions concerning the lynx. Seventeen of the 18 national forest plans proposed to be amended by this decision will likely be revised within the next few years. (The Targhee National Forest revised their plan in 1999). The BLM has recently started revision or replacement of existing plans and anticipates that all out-of-date plans will be replaced within the next few years.

For these reasons the scope of this multi-plan amendment has been narrowly defined to provide consistent management direction that conserves and promotes recovery of the Canada lynx on a broad-scale. Future changes to individual plans could include changes to the direction contained in this amendment. Formal consultation with the USFWS would have to be re-initiated if analysis shows an amendment or revision is likely to adversely affect lynx.

Purpose and Need

The purpose and need for the proposed amendments is:

To establish management direction that conserves and promotes recovery of the Canada lynx, by reducing or eliminating adverse effects from land management activities on these national forests and BLM lands, while preserving the overall multiple-use direction in existing plans. This direction will assure compliance with the requirements of the National Forest Management Act, the Federal Land Policy and Management Act, and the Endangered Species Act (ESA).

Direction is needed to guide project level decisions:

1. To maintain or improve Canada lynx habitat so the lynx can recover; and

2. To avoid or reduce adverse effects from a spectrum of management activities.

To achieve the stated purpose, the selected amendment must provide a level of lynx conservation and recovery comparable to the LCAS.

The Forest Service and BLM expect to consider alternatives for the whole planning area, rather than treating each plan individually. Such an approach would streamline ESA consultation with USFWS. The Lynx Biological Opinion issued by the USFWS concluded that “* * * if Plans are amended or revised incorporating conservation measures in the LCAS, or the equivalent thereof * * * the plans would likely not jeopardize the continued existence of lynx” (p. 54).

Proposed Action

The Forest Service in the Northern Region, the Rocky Mountain Region, the Intermountain Region, and the Bureau of Land Management propose to amend 18 land and resource management plans for national forests in Idaho, Montana, Utah and Wyoming, and 18 BLM land use plans in Idaho and Utah. The proposed amendment would add management direction to these plans. Details of the proposed action may be found on the Internet at http://www.fs.fed.us/r1/lynx.html.

The proposal is designed to provide for conservation and recovery of the Canada lynx, a threatened species. It is based on management recommendations in the “Canada Lynx Conservation Assessment and Strategy” (August 2000), the “Biological Assessment of the Effects of National Forest Land and Resource Management Plans and Bureau of Land Management Land Use Plans on Canada Lynx” (December 1999), the “Lynx Biological Opinion” (October 2000), and the U.S. Fish and Wildlife Service's “Final Listing Rule,” Federal Register, Volume 65, Number 127, 40601-40606 (March 24, 2000).

The proposed action reorganizes the LCAS conservation measures to fit into Forest and BLM land management plan format. The analysis procedures specified in the LCAS would be addressed through the use of agency directives systems or correspondence, but would not be included in the plans.

An Environmental Assessment is being prepared to evaluate and determine the significance of the effects of the proposed action, and to look at alternative ways of achieving the purpose and need.

Decision Framework

The Responsible Officials will decide:

• Whether or not an Environmental Impact Statement is warranted.

• Whether or not to amend National Forest and BLM land management plans to incorporate direction on lynx conservation and recovery, and if so what that direction would contain.

Due to agency specific planning regulations, the BLM and Forest Service will publish separate decision documents for their respective amendments.

Responsible Officials

The responsible officials are Kathleen McAllister, Acting Regional Forester, Northern Region, Region 1, PO Box 7669, Missoula, Montana 59807; Rick Cables, Regional Forester, Rocky Mountain Region, Region 2, PO Box 25127, Lakewood, CO 80225; Jack Blackwell, Regional Forester, Intermountain Region, Region 4, Federal Building, 324 25th Street, Ogden, UT 84401; Martha Hahn, BLM State Director for Idaho, 1387 South Vinnell Way, Boise, ID 83709; and Sally Wisely, BLM State Director for Utah, 324 South State Street, Salt Lake City, UT 84145.

Kathleen McAllister has been delegated the authority to direct the preparation of the environmental analysis.

Public Involvement

The Forest Service and BLM are seeking comments from individuals, organizations, tribal governments, and Federal, State, and local agencies that are interested or may be affected by the proposed action. While public participation is welcome at any time, comments received within 45 days of the publication of this notice will be especially useful in the preparation of the Environmental Assessment. Open houses associated with the project will be held to provide the public a better understanding of the proposed action and to gain an understanding of public issues and concerns. The following meetings have been scheduled at this time; others may be scheduled as needed:

September 21: Sheridan, Wyoming

September 24: Billings, Montana

September 25: Idaho Falls, Idaho

September 26: Hamilton, Montana

September 27: Helena, Montana

September 27: Great Falls, Montana

September 27: Cody, Wyoming

October 2: Challis, Idaho

October 2: Grangeville, Idaho

October 3: Orofino, Idaho

October 3: Missoula, Montana

October 4: Salmon, Idaho

October 10: Libby, Montana

October 10: Bozeman, Montana

October 10: Coeur d'Alene, Idaho

October 11: Kalispell, Montana

October 17: Dillon, Montana

Further information regarding the locations, times, changes or additions to the open houses will be announced in local newspapers, and other news media, and will be available from the local offices of the Forest Service and BLM.

Information from the meetings and public comment will be used in preparation of the Environmental Assessment. The purpose of the scoping process is to identify issues that can be used to develop alternatives and to identify the level and scope of analysis.

The scoping process will be used to evaluate whether or not an Environmental Impact Statement (EIS) is warranted. If an EIS is warranted then the written comments resulting from this notice will be used to determine the scope of alternatives and effects in the EIS.

Preliminary Issues

Some preliminary issues have been identified and are listed below. Other issues may be identified once scoping is completed.

Snowshoe hares, the lynx primary prey, require dense sapling cover. The adoption of new management direction may affect some areas where precommercial thinning may take place. The direction would defer precommercial thinning within lynx habitat until the stands no longer provide snowshoe hare habitat. This would benefit snowshoe hare by providing a necessary habitat component, but may result in increases in insect and disease damage to trees, and potentially in the long-term increased risk of stand replacing wildfires.

Lynx utilize down logs or root wads as den sites. The adoption of new management direction may affect timber harvest practices in order to provide habitat for lynx denning. The direction would provide limitations on salvage harvest under certain conditions. This would provide necessary habitat for lynx denning, but may result in increased fuel buildup in some areas.

Young aspen and lodgepole stands provide good quality habitat for snowshoe hares. In addition, shrub-steppe habitats provide an important habitat component in areas with naturally fragmented forests, particularly for movement and dispersal. The direction would require that livestock be managed to ensure that new growth of aspen and lodgepole pine is not impeded, and that certain habitat conditions in shrub-steppe habitats, riparian areas and willow carrs be maintained. This would provide necessary forage for snowshoe hares, and movement cover for lynx, but may reduce the area or timing of livestock grazing.

Packed trails created by snowmobiles, cross-country skiers, dog sleds etc. may serve as travel routes for potential competitors and predators of lynx, especially coyotes. The adoption of new management direction may affect these kinds of recreational uses. The direction would only allow increases in groomed or designated and/or permitted over-the-snow routes, and designated snow play areas where grooming or designation would serve to consolidate use and result in no net increase of snow compacted areas. This would benefit the lynx by limiting predator access, but could also result in limiting opportunities to increase winter recreation.

Ski areas and four-season resorts may affect lynx denning, foraging, security habitats and the ability for lynx to move between areas. The direction requires certain types lynx habitat be retained and that expansion not create barriers to lynx movement and dispersal. This would provide necessary habitat components, but could result in limitations on ski area expansion or new developments.

Highways, land development and other uses can fragment large tracts of land and the movement of lynx between blocks of habitat. The adoption of new management direction may affect activities within areas of National Forest and BLM lands that link blocks of lynx habitat. The direction requires that activities maintain and restore habitat connectivity, through use of highway crossings, retaining public ownership, and ensuring that new developments do not impair connectivity. This would benefit the lynx by providing movement corridors, but may affect opportunities for additional development or type of development on public lands.

Based on public comments, the issues will be refined and used to develop alternatives and determine the scope of the environmental analysis.

Estimated Dates for Filing

The Forest Service and BLM expects the Environmental Assessment to be released for public, agency, and tribal government comment in early 2002, with a final decision expected in the fall of 2002.

The Reviewer's Obligation To Comment

The Forest Service and BLM believe it is important to give reviewers notice at this early stage of several court rulings related to public participation in the environmental review process. First, reviewers must structure their participation in the environmental review of the proposal so that it is meaningful and alerts an agency to the reviewer's position and contentions (Vermont Yankee Nuclear Power Corp. v. NRDC, 435 U.S. 519, 553 (1978)). Also, environmental objections that could be raised during comment of environmental assessment but that are not raised until after a decision is issued may be waived or dismissed by the courts (Wisconsin Heritages, Inc. v. Harris 490 F. Supp. 1334, 1338 (E.D. Wis. 1980)). Because of these court rulings, it is very important that those interested in this proposed action participate by the close of the 45-day comment period so that substantive comments and objections are made available to the Forest Service and BLM at a time when it can meaningfully consider them and respond to them in the final environmental assessment.

To assist the Forest Service and BLM in identifying and considering issues and concerns on the proposed action, comments on the environmental assessment should be as specific as possible. It is also helpful if comments refer to specific pages or chapters of the analysis. Comments may also address the adequacy of the environmental assessment or the merits of the alternatives formulated and discussed in the statement. Reviewers may wish to refer to the Council on Environmental Quality Regulations for implementing the procedural provisions of the National Environmental Policy Act at 40 CFR 1503.3 in addressing these points.

Dated: August 30, 2001.
Monica J. Schwalbach,
Acting Deputy Regional Forester.

[FR Doc. 01-22599 Filed 9-10-01; 8:45 am]

BILLING CODE 3410-11-M